DEPARTMENT OF LABOR

Mine Safety and Health Administration

Petition for Modification of Application of Existing Mandatory Safety Standard

AGENCY: Mine Safety and Health Administration, Labor.

ACTION: Notice.

SUMMARY: This notice is a summary of a petition for modification submitted to the Mine Safety and Health Administration (MSHA) by the party listed below.

DATES: All comments on the petition must be received by MSHA's Office of Standards, Regulations, and Variances on or before May 20, 2024.

ADDRESSES: You may submit comments identified by Docket No. MSHA-2024-0006 by any of the following methods:

1. Federal eRulemaking Portal: https://www.regulations.gov. Follow the instructions for submitting comments for MSHA-2024-0006.

2. Fax: 202-693-9441.

3. Email: petitioncomments@dol.gov.

4. Regular Mail or Hand Delivery: MSHA, Office of Standards, Regulations, and Variances, 201 12th Street South, 4th Floor West, Arlington, Virginia 22202-5452.

Attention: S. Aromie Noe, Director, Office of Standards, Regulations, and Variances. Persons delivering documents are required to check in at the receptionist's desk, 4th Floor West. Individuals may inspect copies of the petition and comments during normal business hours at the address listed above. Before visiting MSHA in person, call 202-693-9455 to make an appointment, in keeping with the Department of Labor's COVID-19 policy. Special health precautions may be required.

FOR FURTHER INFORMATION CONTACT: S. Aromie Noe, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 and title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2024-002-C.

Petitioner: Marfork Coal Company, LLC, P.O. Box 457, Whitesville, West Virginia 25209.

Mine: Black Eagle Mine, MSHA ID No. 46-09550, located in Raleigh County, West Virginia.

Regulation Affected: 30 CFR 75.312(c) (Main mine fan examinations and records).

Modification Request: The petitioner requests a modification of 30 CFR 75.312(c) to permit testing the automatic fan stopping signal device without shutting down the mine fan.

The petitioner states that:

(a) The mine extracts coal by room and pillar method of mining and utilizes three continuous miner sections producing coal five to six days a week.

(b) The mine has personnel underground 24 hours a day, 7 days per week.

(c) The mine is ventilated by one, Jeffrey model 8HUA117, 1,500 horsepower (hp) and 880 revolutions per minute (rpm), mine fan.

(d) The fan operates at approximately 9 inches of water gauge and moves approximately 695,000 cubic feet per minute.

(e) The mine liberates 635,000 cubic feet of methane every 24 hours as of September 8, 2023.

(f) Currently, the mine fan stops every 31 days to check the fan signal device.

(g) If fan outage last longer than 1, 3, or 48 hours, then the fan is required to run 1, 2, or 3 hours before a certified examiner can re-enter the mine to conduct the required examinations.

(h) It is unfavorable to stop the fan and disrupt the ventilation due to the mine liberating methane and personnel being underground 24 hours a day, 7 days a week, making it impossible to schedule a time when the fan stoppage signal can be checked without miners in the underground.

The petitioner proposes the following alternative method:

(a) The main fine fan shall be provided with a fan alarm signal system consisting of the following:

(1) A ridged plastic tubing protected by steel conduit extending from the fan ductwork to a Photohelic gauge and chart recorder to continuously monitor the fan operating pressure. An automatic fan signal is activated when the fan pressure falls below 50 percent of the normal operating pressure (which currently equals 4.5 inches of water gauge) as measured by the Photohelic gauge. This alarm shall be visible and audible in the dispatcher's office.

(2) A Pyott Boone Belt model #1048 TA monitors the fan. When the fan loses electrical power, the Belt Boss sends a signal to the dispatch office which sounds an alarm. This additional alarm provides a backup in the event the Photohelic gauge or its contacts fail to automatically signal.

(b) The automatic fan signal device shall be tested every seven days by manually operating a valve (Ham-Let valve) near the Photohelic gauge and fan pressure recording chart reducing the pressure on the water gauge to simulate a fan stoppage, causing the activation of the fan signal.

(c) The actuation of the fan alarm shall be verified by a responsible person at the location where the responsible person is always on duty when anyone is underground.

(d) Once this seven-day test of the alternative method has been successfully repeated for four consecutive weeks, the test frequency shall change to every 31 days.

(e) The automatic fan signal device and signal alarm shall be tested every six months by stopping the fan to ensure that the automatic signal device causes the alarm to activate when the fan shuts down.

(f) By the end of the shift on which the test of the automatic fan signal device is completed, person(s) performing the test shall record the test result of the test in a secure book. The record book shall be retained at a surface location at the mine for one year and shall be made available for inspection by an Authorized Representative of the Secretary.

(g) Within 60 days of the Proposed Decision and Order (PDO) granted by MSHA, Marfork shall submit proposed revisions for its approved 30 CFR 48 training plan to the MSHA District Manager. These proposed revisions shall include initial and refresher training regarding compliance with the PDO granted by MSHA. Miners who are to perform the test under the PDO granted by MSHA shall be trained annually on the proper method of testing upon his or her initial assignment to these responsibilities.

The petitioner asserts that the alternate method proposed will at all times guarantee no less than the same measure of protection afforded the miners under the mandatory standard.

Song-ae Aromie Noe,
Director, Office of Standards, Regulations, and Variances.

[FR Doc. 2024-08222 Filed 4-17-24; 8:45 am]

BILLING CODE 4520-43-P